DEPARTMENT OF COMMERCE

International Trade Administration

University of Washington; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 00-024. Applicant: University of Washington, Seattle, WA 98195-6100. Instrument: Laser Microdissection System. Manufacturer: P.A.L.M. Mikrolaser Technologie, Germany. Intended Use: See notice at 65 FR 51797, August 25, 2000.

Comments: None received. Decision: Approved. No instrument of equivalent scientific value to the foreign instrument, for such purposes as it is intended to be used, is being manufactured in the United States. Reasons: The foreign instrument provides: (1) Dissection and catapulting of live cells directly into microcentrifuge tubes for analysis without contamination, (2) high quality microscope optics, (3) selective destruction of unwanted cellular material and (4) microdissection of any shape cell or tissue area. The National Institutes of Health advises in its memorandum of August 10, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 00-25272 Filed 9-29-00; 8:45 am]

BILLING CODE 3510-DS-P